DEPARTMENT OF THE INTERIOR

Fish and Wildlife Service

Information Collection to be Submitted to the Office of Management and Budget (OMB) for Approval Under the Paperwork Reduction Act

AGENCY: Fish and Wildlife Service, Interior.

ACTION: Information collection; request for comments.

SUMMARY: We, the U.S. Fish and Wildlife Service, have submitted the collection of information described below to OMB for approval under the provisions of the Paperwork Reduction Act of 1995. Copies of specific information collection requirements and explanatory materials may be obtained by contacting our Information Collection Officer at the address or phone number listed below.

DATES: You must submit comments on or before August 29, 2001.

ADDRESSES: Send your comments and suggestions on specific requirements to the Office of Management and Budget, Office of Regulatory Affairs, Attention: Department of the Interior Desk Officer, 725 17th Street NW, Washington, DC 20503, and to Rebecca Mullin, Information Collection Officer, U.S. Fish and Wildlife Service, MS 222-ARLSQ, 4401 N. Fairfax Drive, Arlington, VA 22203.

FOR FURTHER INFORMATION CONTACT: Jeffrey L. Horwath, Division of Fish and Wildlife Management Assistance and Habitat Restoration, Arlington, Virginia, at 703/358-1718.

SUPPLEMENTARY INFORMATION: We have submitted the following information collection clearance requirements to the OMB for review and approval under the Paperwork Reduction Act of 1995, Public Law 104-13. The OMB has up to 60 days to approve or disapprove information collection, but they may respond after 30 days. Therefore, for your comments and suggestions to receive maximum consideration, the OMB should receive your input by August 29, 2001.

Currently, we have approval from the OMB to collect this information under OMB control number 1018-0070. This approval expires on October 31, 2001. We may not conduct or sponsor, and a person is not required to respond to, a collection of information unless we display a currently valid OMB control number.

On February 14, 2001, we published in the Federal Register (66 FR 10311) a 60-day notice of our intention to request information collection authority from the OMB; our notice solicited public comments. We received no comments in response to that notice.

As with our 60-day notice, this 30-day notice invites you to comment on: (1) Whether this collection of information is necessary for us to properly perform our functions, including whether the information will have practical utility; (2) the accuracy of our estimate of burden, including the validity of the methodology and assumptions we used; (3) ways to enhance the quality, utility, and clarity of the information we propose to collect; and (4) ways for us to minimize the burden of the collection of information on people who are to respond, including through the use of appropriate automated, electronic, mechanical, or other technological collection techniques or other forms of information technology.

Section 101(a)(5)(A) of the Marine Mammal Protection Act of 1972 authorizes us to allow the incidental, unintentional take of small numbers of marine mammals during a specified activity (other than commercial fishing) in a specified geographic region. Prior to allowing these takes, however, we must find that the total of such taking will have a negligible impact on the species or stocks, and will not have an unmitigable adverse impact on the availability of the species or stocks for subsistence uses by Alaska Natives.

The information that we propose to collect will be used to evaluate applications for specific incidental take regulations to determine whether such regulations, and subsequent Letters of Authorization (LOA), should be issued; the information is needed to establish the scope of specific incidental take regulations. The information is also required to evaluate the impacts of the activities on the species or stocks of the marine mammals and on their availability for subsistence uses by Alaska Natives. It will ensure that all available means for minimizing the incidental take associated with a specific activity are considered by applicants.

We estimate that the burden associated with the request will be a total of 3,140 hours for the full 3-year period of OMB authorization. Two hundred hours will be required to complete the request for specific procedural regulations. For each LOA expected to be requested by you, and issued by us subsequent to issuance of specific procedural regulations, we estimate that 20 hours will be invested: eight hours will be required to complete each request for a LOA, four hours will be required for on-site monitoring activities, and eight hours will be required to complete each final monitoring report. We estimate that seven companies will be requesting LOAs and submitting monitoring reports annually for each of seven sites in the region covered by the specific regulations.

Title: Marine Mammals: Incidental Take During Specified Activities.

Bureau form number: None.

Frequency of collection: Biannually.

Description of respondents: Oil and gas industry companies.

Number of respondents: Seven for each of seven active sites per year (49).

Estimated completion time: For the one time application to request promulgation of the procedural rule, we estimate a 200-hour burden. Annually for three years, 8 hours per LOA, 4 hours for on-site monitoring, and 8 hours per final monitoring report are estimated for each requesting company for seven active sites (20 hours × 7 companies × sites = 980 hours × three years = 2940 + 200 + 3,140 hours burden for three years).

Burden estimate: 3,140 hours.

Dated: April 25, 2001.
Rebecca A. Mullin,
Information Collection Officer, U.S. Fish and Wildlife Service.

[FR Doc. 01-18867 Filed 7-27-01; 8:45 am]

BILLING CODE 4310-55-M